DEPARTMENT OF LABOR

Employment and Training Administration

Workforce Investment Act; Native American Employment and Training Council

AGENCY: Employment and Training Administration, Labor.

ACTION: Notice of meeting.

SUMMARY: Pursuant to Section 10(a)(2) of the Federal Advisory Committee Act (FACA) (Pub. L. 92-463), as amended, and Section 166(h)(4) of the Workforce Investment Act (WIA) [29 U.S.C. 2911(h)(4)], notice is hereby given of the next meeting of the Native American Employment and Training Council (NAETC), as constituted under WIA.

Time and Date: The meeting will begin at 10:30 a.m. Eastern Daylight Savings Time (DST) on Wednesday, April 18, 2007, and continue until 5 p.m. that day. The meeting will reconvene at 10:30 a.m. (DST) on Thursday, April 19, 2007, and adjourn at approximately 4:30 p.m. on that day. The period from 2:30 p.m. to 4:30 p.m. on April 19, 2007, will be reserved for participation and presentations by members of the public.

Place: All sessions will be held at the Hyatt Regency Newport, Vanderbilt Room, 1 Goat Island, Newport, Rhode Island 02840.

Status: The meeting will be open to the public. Persons who need special accommodations should contact the Designated Federal Official (DFO), Mr. Craig Lewis, at (202) 693-3384 by April 12, 2007.

Matters To Be Considered: The formal agenda will focus on the following topics: (1) The Employment and Training Administration's Workforce Innovation in Regional Economic Development initiative and other relevant issues; (2) Indian and Native American Program Update; (3) Workgroup Structures and Activities; (4) Fiscal Year 08 Funding; and (5) Council Recommendations.

FOR FURTHER INFORMATION CONTACT: Mr. Craig Lewis, DFO, Indian and Native American Programs, Employment and Training Administration, U.S. Department of Labor, Room S-4206, 200 Constitution Avenue, NW., Washington, DC 20210. Telephone: (202) 693-3384 (VOICE) (this is not a toll-free number).

Signed at Washington, DC, this 30th day of March 2007.
Emily Stover DeRocco,
Assistant Secretary, Employment and Training Administration.

[FR Doc. E7-6222 Filed 4-2-07; 8:45 am]

BILLING CODE 4510-FN-P